DEPARTMENT OF HEALTH AND HUMAN SERVICES

Administration for Children and Families

Proposed Information Collection Activity; Comment Request

Proposed Projects:

Title: Form OCSE-396A: Financial Report;

Form OCSE-34A: Quarterly Report of Collections.

OMB No.: 0970-0181.

Description: State agencies administering the Child Support Enforcement Program under title IV-D of the Social Security Act are required to provide information each fiscal quarter to the Office of Child Support Enforcement (OCSE) concerning administrative expenditures and the receipt and disposition of child support payments from non-custodial parents. Together with a third quarterly report, “Itemized Undistributed Collections” (Schedule UDC—OMB No. 0970-0268), these forms provide information from each State that is used to compute the quarterly grant awards, the annual incentive payments and provide valuable information on program finances. This information is also included in a published annual statistical and financial report, available to the general public.

Pub. L. 109-171, the Deficit Reduction Act of 2005, contains a number of provisions that will impact the States' completion and submission of these quarterly financial reports. These changes become effective in fiscal years 2006, 2007 and 2008. These changes require revisions to some of the data entry lines and reporting instructions currently contained on these forms. In addition, a periodic review of the data currently requested on these forms will assure that OCSE collections the information needed in the most efficient format feasible.

Respondents: State agencies administering the Child Support Enforcement Program.

Annual Burden Estimates
Instrument | Number of respondents | Number of responses per respondent | Average burden hours per response | Total burden hours
OCSE-396A | 54 | 4 | 8 | 1,728
OCSE-34A | 54 | 4 | 8 | 1,728
Estimate Total Annual Burden Hours: |  |  |  | 3,456

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection. E-mail address: infocollection@acf.hhs.gov.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 28, 2006.
Robert Sargis,
Reports Clearance Officer.

[FR Doc. 06-9503 Filed 12-1-06; 8:45 am]

BILLING CODE 4184-01-M